DEPARTMENT OF HEALTH AND HUMAN SERVICES

Centers for Disease Control and Prevention

[30Day-09-08BF]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Evaluation Models to Assess Patient Perspectives on Opt-out HIV Testing in Clinical Settings—New—National Center for HIV, Viral Hepatitis, STD and TB Prevention (NCHHSTP), Centers for Disease Control and Prevention (CDC).

Background and Brief Description

In 2006, CDC published the Revised Recommendations for HIV Testing of Adults, Adolescents and Pregnant Women in Health Care Settings which recommends routine, opt-out HIV testing to persons 13-64 years of age in health care settings. The goal of this project is to develop evaluation models for health care providers in a variety of settings to independently assess the effect that expanded HIV screening activities have on patient attitudes toward and acceptance of HIV testing.

The evaluation models will be packaged into a toolkit containing educational materials, administrative tools and a model questionnaire to measure patients' perceptions of their ability to decline testing, the sufficiency and effectiveness of methods used to impart information prior to testing, and satisfaction with the testing process.

As part of the development of a model questionnaire for inclusion in the toolkit, three health care settings (a hospital emergency department, a private primary care practice and a public primary care practice) will be selected to pilot test the questionnaire. In each health care site, 150 patients will be asked to voluntarily complete a brief computer assisted self interview regarding their experience with the HIV testing process during their health care visit.

Collection of data will include information on patient demographics and current behaviors that may facilitate HIV transmission; perceptions regarding pressure to take the test; confidentiality and privacy during testing; and patient satisfaction and acceptance of opt-out HIV testing. For persons who refused HIV testing during their visit, information about refusal will be collected.

Results from the pilot will be assessed to understand issues of feasibility of the model questionnaire and validity of the included items and scales. The findings will be used to improve the questionnaire and protocols included in the evaluation models toolkit.

CDC is requesting approval for a 1-year clearance for data collection. CDC estimates that 188 patients will be asked to participate at each site and that 80% will accept, resulting in approximately 450 new survey respondents across all sites. The estimated average duration of the survey is 20 minutes. Participation is voluntary.

There is no cost to the respondents other than their time.

The total estimated annual burden hours are 150.

Estimated Annualized Burden Hours
Type of form | Average number of respondents per annum | Average number of responses per respondent | Average burden per response (hours)
Clinic Patient Survey | 450 | 1 | 20/60

Dated: February 4, 2009.
Maryam I. Daneshvar,
Acting Reports Clearance Officer, Centers for Disease Control and Prevention.

[FR Doc. E9-2973 Filed 2-11-09; 8:45 am]

BILLING CODE 4163-18-P